DEPARTMENT OF COMMERCE

National Institute of Standards and Technology

Agency Information Collection Activities, Submission for Office of Management and Budget (OMB) Review and Emergency Approval; Comment Request; CHIPS Statement of Interest Information Collection

The Department of Commerce will submit the following information collection request to the Office of Management and Budget (OMB) for emergency review and approval in accordance with the Paperwork Reduction Act of 1995, on or after the date of publication of this notice. We invite the general public and other Federal agencies to comment on proposed, and continuing information collections, which helps us assess the impact of our information collection requirements and minimize the public's reporting burden.

Agency: National Institute of Standards and Technology (NIST), Commerce.

Title: CHIPS Statement of Interest Information Collection.

OMB Control Number: 0693-XXXX.

Form Number(s): N/A.

Type of Request: Emergency submission, New Information Collection Request.

Number of Respondents: 350 respondents.

Average Hours per Response: 30 minutes.

Burden Hours: 175 hours.

Needs and Uses: The CHIPS Incentives Program is authorized by Title XCIX—Creating Helpful Incentives to Produce Semiconductors for America of the William M. (Mac) Thornberry National Defense Authorization Act for Fiscal Year 2021 (Pub. L. 116-283, referred to as the CHIPS Act or Act), as amended by the CHIPS Act of 2022 (Division A of Pub. L. 117-167). The CHIPS Incentives Program is administered by the CHIPS Program Office (CPO) within the National Institute of Standards and Technology (NIST) of the United States Department of Commerce (Department). Applicants must submit a statement of interest via a form available at https://applications.chips.gov/ at least 30 days before submission of a pre-application. statement of interest with a brief description of the proposed project. The purpose of the statement of interest is to gauge interest in the program and enable CPO to plan for application review.

Information to be collected includes:

• Name of applicant organization and contact information.

• Estimated date of submission of a pre-application.

• Basic project information, which will be elicited through multiple-choice questions and specific fields in the statement of interest form, including nature of project and potential scope.

Affected Public: Businesses applying for CHIPS Act funding.

Frequency: Once per application.

Respondent's Obligation: Mandatory to obtain benefits derived from the CHIPS Act.

Legal Authority: CHIPS Act of 2022 (Division A of Pub. L. 117-167) (the Act).

This information collection request may be viewed at www.reginfo.gov. Follow the instructions to view the Department of Commerce collections currently under review by OMB.

Written comments and recommendations for the proposed information collection should be submitted within 15 days of the publication of this notice on the following website www.reginfo.gov/public/do/PRAMain. To ensure consideration, comments regarding this proposed information collection must be received on or before February 23, 2023.

Find this particular information collection by selecting “Currently under 30-day Review—Open for Public Comments” or by using the search function and entering the title of the collection.

Sheleen Dumas,
Department PRA Clearance Officer, Office of the Chief Information Officer, Commerce Department.

[FR Doc. 2023-02697 Filed 2-7-23; 8:45 am]

BILLING CODE 3510-60-P